DEPARTMENT OF ENERGY

Federal Energy Regulatory Commission

[Project No. 4684-072]

GR Catalyst One, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 4684-072.

c. Date Filed: April 29, 2025.

d. Applicant: GR Catalyst One, LLC.

e. Name of Project: Stillwater Hydroelectric Project (Stillwater Project).

f. Location: On the Hudson River at the New York State Canal Corporation's Lock C-4 dam in Saratoga, Rensselaer, and Washington counties, New York.

g. Filed Pursuant to: Federal Power Act 16 U.S.C. 791(a)-825(r).

h. Applicant Contact: Tony Zarrella, Chief Operating Officer, Relevate Power, 230 Park Ave, Suite 447, New York, New York 10017; Phone at (315) 247-0253 or email at tz@relevatepower.com; or Jessica Antonez, Regulatory & Compliance Specialist, Relevate Power, 230 Park Ave, Suite 447, New York, New York 10017; Phone at (802) 779-8993 or email at ja@relevatepower.com.

i. FERC Contact: Samantha Pollak at (202) 502-6419, or samantha.pollak@ferc.gov.

j. Cooperating Agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on June 28, 2025.¹

¹ The Commission's Rules of Practice and Procedure provide that if a deadline falls on a Saturday, Sunday, holiday, or other day when the Commission is closed for business, the deadline does not end until the close of business on the next business day. 18 CFR 385.2007(a)(2). Because the 60-day filing deadline falls on a Saturday (i.e., June 28, 2025), the filing deadline is extended until the close of business on Monday, June 30, 2025.

The Commission strongly encourages electronic filing. Please file additional study requests and requests for cooperating agency status using the Commission's eFiling system at https://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Stillwater Hydroelectric Project (P-4684-072).

m. This application has been accepted for filing but is not ready for environmental analysis at this time.

n. The Stillwater Project consists of the following facilities: (1) a 5-foot-high concrete gravity dam topped with wooden flashboards; (2) an 821-foot-long uncontrolled spillway with a crest elevation of 82.4 feet National Geodetic Vertical Datum of 1929 (NGVD 29) containing two sections of flashboards (Section A and Section B) of differing heights [approximately 2.1 feet high (Section A) and 1.33 feet high (Section B)]; (3) a reservoir with a surface area of 1,500 acres and a normal volume of 9,000 acre-feet at an elevation of 84.1 feet NGVD 29; (4) an outlet structure containing three 11-foot-wide, 10-foot-deep sluice gates and a 10-foot-wide fish bypass gate located between the right abutment of the dam and the powerhouse; (5) an intake structure; (6) an approximate 116-foot by 56-foot concrete and steel powerhouse containing two turbines with a combined capacity of 3.5 megawatts; (7) a 275-foot-long tailrace channel varying in width from 110 feet near the draft tube extensions to 230 feet at its downstream end; (8) a 4.16/34.5-kilovolt (kV) step-up transformer adjacent to the powerhouse; (9) a 3.5-mile-long, 34.5-kV overhead transmission line; and (10) appurtenant facilities.

The Stillwater Project operates in a run-of-river mode with a minimum flow of 500 cubic feet per second (cfs) provided year-round over the east section of the flashboards. The fish bypass system adjacent to the downstream end of the trashrack provides a year-round flow of 104 cfs for downstream fish passage. The Stillwater Project has an average annual generation of approximately 14,860 megawatt-hours.

o. A copy of the application can be viewed on the Commission's website at https://www.ferc.gov, using the “eLibrary” link. Enter the docket number, excluding the last three digits in the docket number field, to access the document (P-4684). For assistance, contact FERC at FERCOnlineSupport@ferc.gov, or call toll free, (866) 208-3676 or (202) 502-8659 (TTY).

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

p. Procedural schedule and final amendments: The application will be processed according to the following schedule. Revisions to the schedule will be made as appropriate.

Issue Deficiency Letter (if necessary)—July 2025

Request Additional Information—July 2025

Issue Acceptance Letter—November 2025

Issue Scoping Document 1 for comments—December 2025

Issue Scoping Document 2 (if necessary)—February 2026

Issue Notice of Ready for Environmental Analysis—February 2026

Final amendments to the application must be filed with the Commission no later than 30 days from the issuance date of the notice of ready for environmental analysis.

Dated: May 15, 2025.
Carlos D. Clay,
Deputy Secretary.

[FR Doc. 2025-09105 Filed 5-20-25; 8:45 am]

BILLING CODE 6717-01-P